DEPARTMENT OF COMMERCE

National Oceanic and Atmospheric Administration

RIN 0648-XG527

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will be held on Monday, October 22 through Thursday, October 25, 2018.

ADDRESSES: The meeting will take place at the Battle House Renaissance Mobile Hotel & Spa, located at 26 North Royal Street, Mobile, AL 36602-3802; telephone: (251) 338-2000.

Council address: Gulf of Mexico Fishery Management Council, 4107 W. Spruce Street, Suite 200, Tampa, FL 33607; telephone: (813) 348-1630.

FOR FURTHER INFORMATION CONTACT: Dr. Carrie Simmons, Executive Director, Gulf of Mexico Fishery Management Council; telephone: (813) 348-1630.

SUPPLEMENTARY INFORMATION:

Agenda

Monday, October 22, 2018; 8 a.m.-5:30 p.m.

The meeting will begin in a Full Council session to assign council members to the October 2018 through October 2019 Committees. The Committee Sessions will begin approximately 8:30 a.m. with the Coral Committee reviewing analysis for the Vessel Monitoring System (VMS) and Electronic Logbooks (ELB) Information for the Flower Garden Banks National Marine Sanctuary Expansion. The Mackerel Committee will receive an update on Coastal Migratory Pelagics (CMP) Landings; and discuss taking final action on CMP Framework Amendment 7—Modifications to Gulf Cobia Size and Possession Limits. The Administrative/Budget Committee will convene to review and approve the funded budget, and proposed modifications to the Statement of Organization Practices and Procedures (SOPPs).

After lunch, the Gulf SEDAR Committee will receive a summary from the SEDAR Steering Committee Meeting; and review the Gulf of Mexico SEDAR Schedule. The Sustainable Fisheries Committee will review the revised draft of the Conversion of Historical Captain Endorsements to Federal For-Hire Permits; Revised Generic Amendment for Carryover of Unharvested Quota; and the Gulf of Mexico Allocation Review Triggers.

Tuesday, October 23, 2018; 8:30 a.m.-5 p.m.

The Reef Fish Management Committee will review Reef Fish Landings and the revised draft for Amendment 50: State Management Program for Recreational Red Snapper and Individual State Amendments. After lunch, the committee with discuss Reef Fish Management Objectives; review draft amendment for Establishing Gray Snapper Status Determination Criteria, Reference Points, and Modifications to Annual Catch Limits; receive a presentation on the Great Red Snapper Count; receive a summary from the Scientific and Statistical Committee (SSC) meeting; and discuss the Status of Convening the Ad Hoc Reef Fish Headboat and Red Snapper Charter For-hire Advisory Panels.

Wednesday, October 24, 2018; 8:30 a.m.-5:30 p.m.

The Data Committee will review revisions to the Marine Recreational Information Program's (MRIP) Recreational Data Collection Program; receive a presentation summary report from the For-Hire Electronic Reporting Workshop hosted by the Quality Management Professional Specialty Group, and an update from the MRIP Red Snapper Survey Design Workshop. The Ecosystem Committee will review a draft outline of the Fishery Ecosystem document. The Shrimp Committee will review draft options for Shrimp Amendment 18: Evaluation of Shrimp Effort Threshold Reduction in the Area Monitored for Juvenile Red Snapper Bycatch; and, the Law Enforcement Committee will give a summary from the Joint Law Enforcement Technical Committee and Law Enforcement Committee meeting; and approve the 2019-20 Operations Plan.

Late morning (approximately 11:15 a.m.), the Full Council will reconvene with a Call to Order, Announcements, and Introductions; Adoption of Agenda and Approval of Minutes; and presenting the Recipient of the 2017 Law Enforcement Officer of the Year Award. The Council will review Exempted Fishing Permit (EFP) applications, if any; receive a presentation on Alabama Law Enforcement efforts; and a summary on Highly Migratory Species (HMS) Advisory Panel efforts. After lunch, the Council will receive public testimony from 1:30 p.m. until 4:30 p.m. on the following items: Final Action: CMP Framework Amendment 7: Modifications to Gulf Cobia Size and Possession Limits; and, open testimony on any other fishery issues or concerns. Anyone wishing to speak during public comment should sign in at the registration station located at the entrance to the meeting room. Following public testimony, the Council will begin receiving committee reports from the Coral, Administrative/Budget, and Gulf SEDAR Management Committees.

Thursday, October 25, 2018; 8:30 a.m.-3 p.m.

The Council will continue to receive committee reports from Mackerel, Sustainable Fisheries, Data Collection, Shrimp, Ecosystem, Law Enforcement, and Reef Fish Management Committees. After lunch, the Council will vote on Exempted Fishing Permit (EFP) applications, if any; and receive updates from the following supporting agencies: South Atlantic Fishery Management Council; NOAA Office of Law Enforcement (OLE), Gulf States Marine Fisheries Commission; U.S. Coast Guard; U.S. Fish and Wildlife Service; and, the Department of State.

Lastly, the Council will discuss any Other Business items. Discussion on Aquaculture Court Decision

—Meeting Adjourns

The meeting will be broadcast via webinar. You may register for the webinar by visiting www.gulfcouncil.org and clicking on the Council meeting on the calendar.

The timing and order in which agenda items are addressed may change as required to effectively address the issue, and the latest version along with other meeting materials will be posted on www.gulfcouncil.org as they become available.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: October 3, 2018.
Tracey L. Thompson,
Acting Deputy Director, Office of Sustainable Fisheries, National Marine Fisheries Service.

[FR Doc. 2018-21838 Filed 10-5-18; 8:45 am]

BILLING CODE 3510-22-P